DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is proposing to provide one-year supplemental funding in FY 2023 to three Hawaii grant programs to support Maui residents in the aftermath of the Maui wildfires. The Hawaii State Department of Health, the recipient for Certified Community Behavioral Health Clinics Planning, Development, and Implementation (CCBHC-PDI), Grants for Expansion and Sustainability of the Comprehensive Community Mental Health Services for Children with Serious Emotional Disturbances Program (CMHI), and Community Mental Health Services Block Grant (MHBG) will be offered a total of $2,765,556 in supplemental funding since they are the only recipient providing or able to provide services to Maui residents.

FOR FURTHER INFORMATION CONTACT: Tison Thomas, Deputy Director, Center for Mental Health Services/SAMHSA, Tison.thomas@samhsa.hhs.gov; 202-853-5282.

SUPPLEMENTARY INFORMATION:

Funding Opportunity Title: FY 2022 Certified Community Behavioral Health Clinics Planning, Development, and Implementation Grants (CCBHC-PDI), SM-22-022; FY 2023 Community Mental Health Services Block Grant (MHBG); FY 2020 Grants for Expansion and Sustainability of the Comprehensive Community Mental Health Services for Children with Serious Emotional Disturbances (CMHI).

Assistance Listing Number: 93.696—CCBHC-PDI; 93.104—CMHI; 93.958—MHBG.

Authority: CCBHC-PDI grants are authorized under Section 520A of the Public Health Services Act, as amended. CMHI grants are authorized under Sections 516-565 of the Public Health Services Act, as amended. MHBG grants are authorized under Section 1920 of the Public Health Service Act, as amended.

Justification: Eligibility for this supplemental funding is limited to the Hawaii State Department of Health as the grant recipient for the CCBHC-PDI, CMHI and MHBG programs. They are the only Hawaii funded recipient within these programs and are providing or able to provide services to Maui residents. This supplemental funding will be used to address the behavioral health needs of Maui residents in the aftermath of the Maui wildfires. This is not a formal request for application. Assistance will only be provided to the Hawaii State Department of Health based on the receipt of a satisfactory application and associated budget.

Dated: September 15, 2023.
Ann Ferrero,
Public Health Analyst.

[FR Doc. 2023-20432 Filed 9-20-23; 8:45 am]

BILLING CODE 4162-20-P